DEPARTMENT OF AGRICULTURE

Agricultural Marketing Service

[Document No. AMS-ST-13-0059]

Plant Variety Protection Board; Open Meeting

AGENCY: Agricultural Marketing Service, USDA.

ACTION: Notice of meeting.

SUMMARY: This notice is intended to notify the public of their opportunity to attend an open meeting of the Plant Variety Protection Board.

DATES: December 9, 2013, 1:00 p.m. to 5:00 p.m. and December 10, 2013, 8:00 a.m. to 5:00 p.m., open to the public.

ADDRESSES: The meeting will be held at the Water Tower Room of the Hyatt Regency Chicago Hotel, 151 East Wacker Drive, Chicago, IL 60601.

FOR FURTHER INFORMATION CONTACT: Ms. Maria Pratt, Plant Variety Protection Office, Science and Technology Programs, Agricultural Marketing Service, United States Department of Agriculture, 1400 Independence Avenue SW., Washington, DC 20250. Telephone number (202) 260-8983, fax (202) 260-8976, or email: maria.pratt@ams.usda.gov.

SUPPLEMENTARY INFORMATION: Pursuant to the provisions of section 10(a) of the Federal Advisory Committee Act (5 U.S.C., Appendix 2), this notice is given regarding an upcoming Plant Variety Protection (PVP) Board meeting. The Plant Variety Protection Act (PVPA) (7 U.S.C. 2321 et seq.) provides legal protection in the form of intellectual property rights to developers of new varieties of plants, which are reproduced sexually by seed or are tuber-propagated. A Certificate of Plant Variety Protection is awarded to an owner of a crop variety after an examination shows that it is new, distinct from other varieties, genetically uniform and stable through successive generations. The term of protection is 20 years for most crops and 25 years for trees, shrubs, and vines. The PVPA also provides for a statutory Board (7 U.S.C. 2327). The duties of the Board are to: (1) Advise the Secretary concerning the adoption of rules and regulations to facilitate the proper administration of the Act; (2) provide advisory counsel to the Secretary on appeals concerning decisions on applications by the PVP Office and on requests for emergency public-interest compulsory licenses; and (3) advise the Secretary on any other matters under the Regulations and Rules of Practice and on all questions under Section 44 of the Act, “Public Interest in Wide Usage” (7 U.S.C. 2404).

The purpose of the meeting will be to discuss the PVP Office's 2013 achievements, 2014 work plan and outreach plan, ongoing process improvements, updates on electronic applications/database conversion, plans for PVP recognition by other countries, the activity of the subcommittee to evaluate molecular techniques for PVP distinctness characterization and proposals for procedure changes. The proposed agenda for the PVP Board meeting will include a welcome by Department officials followed by a discussion focusing on program activities that encourage the development of new plant varieties and address appeals to the Secretary. The agenda will also include presentations on PVP plans for the future, electronic PVP application/computer database development, and the use of molecular markers for PVP applications.

The meeting will be open to the public. Those wishing to attend or phone into the meeting are encouraged to pre-register by December 2, 2013 with the person listed under FOR FURTHER INFORMATION CONTACT. Meeting Accommodations: The meeting hotel is ADA Compliant, and the USDA provides reasonable accommodation to individuals with disabilities where appropriate. If you require accommodations, such as sign language interpreter, please contact the person listed under FOR FURTHER INFORMATION CONTACT. Determinations for reasonable accommodation will be made on a case-by-case basis. Minutes of the meeting will be available for public review 30 days following the meeting at the Internet Web site http://www.ams.usda.gov/PVPO.

Dated: October 17, 2013.
Rex A. Barnes,
Associate Administrator, Agricultural Marketing Service.

[FR Doc. 2013-24820 Filed 10-23-13; 8:45 am]

BILLING CODE M